DEPARTMENT OF COMMERCE

National Oceanic and Atmospheric Administration

[I.D. 091702B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Monkfish Oversight Committee, Skate Advisory Panel and Whiting Oversight Committee in October, 2002 to consider actions affecting New England fisheries in the exclusive economic zone (EEZ). Recommendations from these groups will be brought to the full Council for formal consideration and action, if appropriate.

DATES: The meetings will be held on October 8-10, 2002 and October 23-24, 2002. See SUPPLEMENTARY INFORMATION for specific dates and times.

ADDRESSES: The meetings will be held in Portland, ME, Mansfield and Danvers, MA and Warwick, RI. See SUPPLEMENTARY INFORMATION for specific locations.

Council address: New England Fishery Management Council, 50 Water Street, Mill 2, Newburyport, MA 01950.

FOR FURTHER INFORMATION CONTACT: Paul J. Howard, Executive Director, New England Fishery Management Council, (978) 465-0492.

SUPPLEMENTARY INFORMATION:

Meeting Dates and Agendas

Tuesday, October 8, 2002 at 9:30 a.m.—Monkfish Oversight Committee Meeting.

Location: Holiday Inn by the Bay, 88 Spring Street, Portland, ME; telephone: (207-775-2311).

The Committee will review overfishing definition options and analysis prepared by the Plan Development Team (PDT) for inclusion in Framework 2, and comments by the Scientific and Statistical Committee. The analysis will also show Fishing Year 2003 target Total Allowable Catch (TACs) for each of the options. Framework 2 will implement adjustments to the overfishing definitions that were made on a temporary basis under NMFS emergency rule in 2002, with modifications as appropriate based on PDT analysis. Framework 2 will also implement trip limit and days-at-sea adjustments for 2003 as needed to achieve the target TACs. Unless modified by Framework 2, the default measures eliminating the monkfish directed fishery will take effect upon expiration of the emergency rule in May, 2003 (pending an extension for 180 days by the Secretary of Commerce in November, 2001). The Committee will also provide guidance to the PDT in the development of management alternatives to achieve the targets for the 2003 fishing year.

Wednesday, October 9, 2002 at 9:30 a.m.—Whiting Oversight Committee Meeting.

Location: Holiday Inn, 31 Hampshire Street, Mansfield, MA 02048; telephone: (508) 339-2200.

The committee will review development of Framework 37 to the Northeast Multispecies Fishery Management Plan (FMP), including progress on Draft Framework 37 document, background information, and available analyses. They will refine alternatives for inclusion in Framework 37. They will also provide guidance to the Whiting PDT regarding Framework 37. Also on the agenda is discussion of the timing of Framework 37 and other related issues.

Thursday, October 10, 2002 at 10 a.m.—Skate Advisory Panel Meeting.

Location: Holiday Inn, 31 Hampshire Street, Mansfield, MA 02048; telephone: (508) 339-2200.

The panel will review the Draft Skate FMP and Environmental Impact Statement (EIS) and public hearing document. They will review public comments received on the Draft Skate FMP/EIS and public hearing document. They will also develop advisory panel comments and recommendations for Skate Committee and Council consideration regarding the Final Skate FMP management measures.

Wednesday, October 23,2002 at 10 a.m and Thursday, October 24, 2002 at 8:30 a.m.—Monkfish Oversight Committee Meeting.

Location: Hampton Inn and Suites Airport, 2100 Post Road, Warwick, RI 02886; telephone: (401) 739-8888.

The Committee will review a draft Stock Assessment and Fishery Evaluation (SAFE) Report on the 2001 fishing year, and PDT analysis of options for overfishing definition reference points, target TACs and management measures to be considered in Framework 2. Measures under consideration include adjustments to the trip limits and days-at-sea allocations to achieve the target TACs and to account for changes to the multispecies fishery management program (affecting monkfish vessels) under the court-ordered remedy. The Committee will recommend preferred alternatives to the Councils, as appropriate, or any other measures needed to achieve the plan objectives in 2003. The Committee will discuss the status of Amendment 2 and develop a timetable for completion of required elements and analysis.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: September 17, 2002.
Theophilus R. Brainerd,
Acting Director, Office of Sustainable Fisheries, National Marine Fisheries Service.

[FR Doc. 02-24156 Filed 9-20-02; 8:45 am]

BILLING CODE 3510-22-S